DEPARTMENT OF DEFENSE

Department of the Army; Corps of Engineers

Intent To Prepare a Draft Environmental Impact Statement for The Coastal Texas Protection and Restoration Feasibility Study

AGENCY: Department of the Army, U.S. Army Corps of Engineers, DoD.

ACTION: Notice of Intent.

SUMMARY: The U.S. Army Corps of Engineers (USACE) intends to prepare a Draft Integrated Feasibility Report and Environmental Impact Statement (DIFR-EIS) for the Coastal Texas Protection and Restoration Feasibility Study. This study will identify and evaluate the feasibility of developing a comprehensive plan for flood risk management, hurricane and storm risk management, and ecosystem restoration for the coastal areas of the State of Texas. The study will focus on providing for the protection, conservation, and restoration of wetlands, barrier islands, shorelines, and related lands and features that protect critical resources, habitat, and infrastructure from the impacts of coastal storms, hurricanes, erosion, and subsidence. This notice announces the USACE's intent to determine the scope of the issues to be addressed and for identifying the significant resources related to a proposed action.

DATES: Comments on the scope of the DIFR-EIS will be accepted through May 9, 2016.

ADDRESSES: Scoping comments may be sent by electronic mail to: CoastalTexas@usace.army.mil.

FOR FURTHER INFORMATION CONTACT: Galveston District Public Affairs Office at 409-766-3004 or swgpao@usace.army.mil.

SUPPLEMENTARY INFORMATION: 1. Authority. The Coastal Texas Protection and Restoration Feasibility Study is authorized under Section 4091, Water Resources Development Act (WRDA) of 2007, Public Law 110-114, to develop a comprehensive plan to determine the feasibility of carrying out projects for flood risk management, hurricane and storm risk management, and ecosystem restoration in the coastal areas of the State of Texas.

2. Proposed Action. The study will identify critical data needs and recommend a comprehensive strategy for reducing coastal storm flood risk through structural and nonstructural measures that take advantage of natural features like barrier islands and storm surge storage in wetlands. Structural alternatives to be considered include improvements to existing systems (such as existing hurricane protection projects at Port Arthur, Texas City, Freeport, and Lynchburg, and seawalls at Galveston, Palacios, Corpus Christi, North and South Padre Island), and the creation of new structural plans for hurricane storm risk management. Ecosystem restoration alternatives to be considered include estuarine marsh restoration, beach and dune restoration, rookery island restoration, oyster reef restoration, and seagrass bed restoration. The study will evaluate potential benefits and impacts of the proposed action including direct, indirect and cumulative effects to the human, water and natural environments that balance the interests of flood risk management, hurricane and storm risk management, and ecosystem restoration purposes for Texas and the Nation.

3. Scoping. In August, 2014, early scoping meetings were held in League City, Palacios, Corpus Christi, and the City of South Padre Island, Texas. Comments were received for 30 days following the last scoping meeting. Additional input from Federal, state and local agencies, Indian tribes, and other interested private organizations and parties is being solicited with this notice. The USACE requests public scoping comments to: (a) Identify the affected public and agency concerns; (b) identify the scope of significant issues to be addressed in the DIFR-EIS; (c) identify the critical problems, needs, and significant resources that should be considered in the DIFR-EIS; and (d) identify reasonable measures and alternatives that should be considered in the DIFR-EIS. A Scoping Notice announcing the USACE's request for public scoping comments will be sent via electronic mail to affected and interested parties. Scoping comments are requested to be sent by May 9, 2016.

4. Coordination. Further coordination with environmental agencies will be conducted under the National Environmental Policy Act, the Fish and Wildlife Coordination Act, the Clean Water Act, the Clean Air Act, the National Historic and Preservation Act, the Magnuson-Stevens Fishery Conservation and Management Act, and the Coastal Zone Management Act under the Texas Coastal Management Program.

5. Availability of DIFR-EIS. The DIFR-EIS will be available for public review and comment in July 2018.

Dated: March 23, 2016.
Richard P. Pannell,
Colonel, U.S. Army, Commanding.

[FR Doc. 2016-07283 Filed 3-30-16; 8:45 am]

BILLING CODE 3720-58-P